DEPARTMENT OF TRANSPORTATION

Federal Highway Administration

Environmental Impact Statement: Placer and Sutter Counties, CA

AGENCY: Federal Highway Administration (FHWA), DOT.

ACTION: Notice of intent.

SUMMARY: The FHWA is issuing this notice to advise the public of its intent to prepare a Tier 1 Environmental Impact Statement (EIS) for the Placer Parkway Corridor Preservation, a proposed transportation corridor in western Placer and eastern Sutter Counties, California.

FOR FURTHER INFORMATION CONTACT: Mr. Steve Healow, Transportation Engineer, Federal Highway Administration, 980 9th St., Suite 400, Sacramento, CA 95814-2724. Telephone: (916) 498-5849.

SUPPLEMENTARY INFORMATION:

Electronic Access

An electronic copy of this document may be downloaded by using a computer, modem and suitable communications software from the Government Printing Office's Electronic Bulletin Board Service at (202) 512-1661. Internet users may reach the Office of Federal Register's home page at http://www.nara.gov/fedreg and the Government Printing Office's Web page at http://www.access.gpo.gov.nara.

Background

The FHWA, in cooperation with the California Department of Transportation (Caltrans), Sutter County, and the South Placer Regional Transportation Authority (SPRTA), will prepare a Tier 1 Environmental Impact Statement (EIS) on a proposal to preserve a right-of-way corridor for a future transportation facility approximately 15 miles long that would connect State Route 65 in Placer County, north of the City of Roseville, and State Route 70/99 in Sutter County, north of the City of Sacramento. Three corridor concepts were identified in a Project Study Report prepared in 2001. One concept would consist of a 14.4 mile long, four-lane expressway/freeway connection from SR 65 at Whitney Boulevard to SR 70/99 at a point about one mile north of Sankey Road. This concept would parallel Sunset Boulevard West and Howsley Road for most of its east-west route. Another concept would consist of a 14.3 mile long, four-lane freeway connection from SR 65 at Sunset Boulevard to SR 70/99 at a point about one mile north of Riego Road. West of Fiddyment Road, this concept would travel diagonally through the agricultural area that lies between Sunset Boulevard West and Baseline Road. A third concept would be 15.6 miles long and connect SR 65 at Whitney Boulevard to SR 70/99 at a point about one-mile south of Riego Road. It would also travel through the agricultural area between Sunset Boulevard West and Baseline Road, but would parallel Baseline Road more closely. These concepts, together with other feasible alignments that may be identified during the scoping process, will be evaluated to determine the alternatives that will be analyzed in the EIS.

The Placer Parkway Corridor includes some of the fastest growing communities in the Sacramento region. The population in south Placer County will nearly double between 2000 and 2025. Employment in the SR 65 “high-tech” corridor is expected to grow even faster than the population. Sutter County has designated a large area on the western side of the Placer Parkway Corridor for up to 3,500 acres of industrial and commercial development. By 2025, total employment in southwest Placer County is projected to exceed total employment in downtown Sacramento. Anticipated development in the area will dramatically increase travel demand over the next 20 years and beyond. At the same time, daily traffic volumes on I-80 south of the study area are projected to increase nearly 40 percent in the already congested area south of the project area. Travel speeds will decline as well on local thoroughfares. Congestion on inter-regional roadways will adversely impact access to jobs. Free-flowing access and reliable travel times to both the Sacramento International Airport and the Lincoln Airport are important to this growing regional job center. A new controlled-access highway connection between SR 65 and SR 70/99 would benefit the regional transportation system by providing an alternative to SR 65 and I-80, thereby reducing traffic demand in these existing freeway corridors.

The proposed Parkway project is identified in the Sacramento Council of Government's (SACOG) 2025 Metropolitan Transportation Plan (MTP) and the 2022 Placer County Regional Transportation Plan.

Federal and state environmental laws allow “tiered” environmental review. Tiering is a way to focus environmental studies during the planning process at the same level of detail as the plans. The first tier document (Tier 1) allows an agency to focus on broad environmental issues and areawide air quality and land use implications, which may correlate directly to early planning decisions, such as the type, the general location, and major design features of a roadway. The Tier I EIS will also evaluate potential cumulative and indirect impacts and identify potential conceptual mitigation for impacts. This work will rely largely on existing Geographic Information System (GIS) data and limited fieldwork. The Tier I EIS will not result in any construction.

Second tier (Tier 2) documents involve environmental analyses and review that address a narrower geographic area, a more focused set of issues, and a specific proposed action. A Tier 2 document relies on a summary of the work in a Tier 1 document relative to broad environmental issues, which avoids unnecessary repetition. This also allows the Tier 2 document to be focused on the project impacts based on the additional details, such as design, construction, and operation of the proposed project, available in later stages of project planning.

The Tier 1 EIS will evaluate alternatives for corridors ranging from 500 to 1,000 feet wide. The 500 foot wide segments will be at the east and west ends near the State route connections. The 1,000 foot wide central segment will be generally from Fiddyment Road to Pleasant Grove Road. Because of pending and anticipated urban development in the vicinity, completing a Tier 1 EIS is critical to corridor preservation. When the Tier 1 EIS is completed, the selected corridor will be protected by acquiring key properties, securing rights in property, or other suitable means.

As a separate project in the future, a Tier 2 document would be prepared to evaluate the future transportation facility alignment or footprint within the selected corridor. This project-level environmental review would examine potential impacts, costs, and mitigation for construction and operation of the transportation facility.

The Placer Parkway concept was developed by the following two planning studies, both of which were adopted by the Placer County Transportation Planning Agency (PCTPA) and SACOG. Copies of these studies are available on PCTPA's Web site: http://www.pctpa.org.

The 2000 Placer Parkway Conceptual Study provided a preliminary scope, project goals/policies, concept alignment alternatives, and a funding strategy. The 2001 Placer Parkway Project Study Report (PSR) clarified policy direction, identified and evaluated several concept corridor alternatives for programming purposes, and identified a number of potential impacts, including impacts to air quality, biological resources, cultural resources, floodplains, hazardous waste, soils and seismicity, water quality, noise, land use, socio-economics, and public services.

A new transportation model will be developed and environmental information will be collected and mapped. Conceptual corridor alternatives identified in the Conceptual Plan and the PSR will be refined and new corridor alternatives will be developed. Corridor alternatives will be screened using transportation, environmental, and engineering criteria. This process will establish the corridor alternatives to be considered in the Tier 1 EIS.

Public meetings will be held to present the identified alternatives for evaluation in the Tier 1 EIS. Public scoping meetings will be held in:

• Placer County—Monday, October 6, 2003, 4 to 8 p.m. Maidu Community Center, Meeting Rooms 1 & 2, 1550 Maidu Drive, Roseville, CA 95661

• Sutter County—Thursday, October 9, 2003, 4 to 8 p.m. Pleasant Grove School, 3075 Howsley Road, Pleasant Grove, CA 95678

To ensure that a full range of issues related to this proposed action are addressed and all significant issues identified, comments and suggestions are invited from all interested parties. Comments or questions concerning this proposed action or the Tier 1 EIS should be directed to the FHWA at the address provided above or to Celia McAdam, Executive Director, PCTPA, 550 High Street, Suite 107, Auburn, CA 95603.

Issued on: September 12, 2003.
Leland Dong,
North Region Team Leader, Sacramento, California.

[FR Doc. 03-23836 Filed 9-17-03; 8:45 am]

BILLING CODE 4910-22-M